DEPARTMENT OF ENERGY

Federal Energy Regulatory Commission

Combined Notice of Filings #1

Take notice that the Commission received the following electric corporate filings:

Docket Numbers: EC24-51-000.

Applicants: EnerSmart Chula Vista BESS LLC.

Description: Application for Authorization Under Section 203 of the Federal Power Act of EnerSmart Chula Vista BESS LLC.

Filed Date: 2/14/24.

Accession Number: 20240214-5228.

Comment Date: 5 p.m. ET 3/6/24.

Take notice that the Commission received the following exempt wholesale generator filings:

Docket Numbers: EG24-112-000.

Applicants: Crossett Solar Energy, LLC.

Description: Crossett Solar Energy, LLC submits Notice of Self-Certification of Exempt Wholesale Generator Status.

Filed Date: 2/14/24.

Accession Number: 20240214-5213.

Comment Date: 5 p.m. ET 3/6/24.

Docket Numbers: EG24-113-000.

Applicants: Crossett Solar Energy, LLC.

Description: Crossett Solar Energy, LLC submits Notice of Self-Certification of Exempt Wholesale Generator Status.

Filed Date: 2/14/24.

Accession Number: 20240214-5221.

Comment Date: 5 p.m. ET 3/6/24.

Take notice that the Commission received the following electric rate filings:

Docket Numbers: ER23-2641-002; ER23-2642-002.

Applicants: NRG Power Marketing LLC, NRG Power Marketing LLC.

Description: Notice Regarding Refund Report Requirement of NRG Power Marketing LLC.

Filed Date: 2/7/24.

Accession Number: 20240207-5150.

Comment Date: 5 p.m. ET 2/28/24.

Docket Numbers: ER24-948-001.

Applicants: PJM Interconnection, L.L.C.

Description: Tariff Amendment: Amendment of Amended ISA, SA No. 4322; Z1-036 in Docket ER24-948-000 to be effective 3/19/2024.

Filed Date: 2/15/24.

Accession Number: 20240215-5201.

Comment Date: 5 p.m. ET 3/7/24.

Docket Numbers: ER24-1250-000.

Applicants: PJM Interconnection, L.L.C.

Description: 205(d) Rate Filing: Original NSA, SA No. 7185; Queue No. O20 to be effective 4/16/2024.

Filed Date: 2/15/24.

Accession Number: 20240215-5028.

Comment Date:5 p.m. ET 3/7/24.

Docket Numbers: ER24-1251-000.

Applicants: New York Independent System Operator, Inc., Niagara Mohawk Power Corporation.

Description: 205(d) Rate Filing: New York Independent System Operator, Inc. submits tariff filing per 35.13(a)(2)(iii: NYISO-NMPC Joint 205: Scnd Amnd SGIA for Albany County 1 Solar SA2554 to be effective 2/1/2024.

Filed Date: 2/15/24.

Accession Number: 20240215-5074.

Comment Date: 5 p.m. ET 3/7/24.

Docket Numbers: ER24-1252-000.

Applicants: PJM Interconnection, L.L.C.

Description: 205(d) Rate Filing: Original NSA, SA No. 7192; Queue No. AG1-386 to be effective 4/16/2024.

Filed Date: 2/15/24.

Accession Number: 20240215-5077.

Comment Date: 5 p.m. ET 3/7/24.

Docket Numbers: ER24-1253-000.

Applicants: Tri-State Generation and Transmission Association, Inc.

Description: 205(d) Rate Filing: Amendment to Rate Schedule FERC No. 16 to be effective 4/15/2024.

Filed Date: 2/15/24.

Accession Number: 20240215-5105.

Comment Date: 5 p.m. ET 3/7/24.

Docket Numbers: ER24-1254-000.

Applicants: New York Independent System Operator, Inc., Niagara Mohawk Power Corporation.

Description: 205(d) Rate Filing: New York Independent System Operator, Inc. submits tariff filing per 35.13(a)(2)(iii: NYISO-NMPC Joint 205: Scnd Amnd SGIA for Albany County 2 Solar SA2555 to be effective 2/1/2024.

Filed Date: 2/15/24.

Accession Number: 20240215-5114.

Comment Date: 5 p.m. ET 3/7/24.

Docket Numbers: ER24-1255-000.

Applicants: PacifiCorp.

Description: 205(d) Rate Filing: UAMPS TSOA Rev 8 to be effective 4/16/2024.

Filed Date: 2/15/24.

Accession Number: 20240215-5119.

Comment Date: 5 p.m. ET 3/7/24.

Docket Numbers: ER24-1256-000.

Applicants: Alabama Power Company, Georgia Power Company, Mississippi Power Company.

Description: 205(d) Rate Filing: Alabama Power Company submits tariff filing per 35.13(a)(2)(iii: Duke Energy Renewables Solar (Durant Bend Solar) LGIA Amendment Filing to be effective 2/1/2024.

Filed Date: 2/15/24.

Accession Number: 20240215-5120.

Comment Date: 5 p.m. ET 3/7/24.

Docket Numbers: ER24-1257-000.

Applicants: Southwest Power Pool, Inc.

Description: 205(d) Rate Filing: 4223 WAPA/City of Beresford, SD Interconnection Agreement to be effective 2/15/2024.

Filed Date: 2/15/24.

Accession Number: 20240215-5213.

Comment Date: 5 p.m. ET 3/7/24.

Docket Numbers: ER24-1258-000.

Applicants: Southwest Power Pool, Inc.

Description: 205(d) Rate Filing: 4224 WAPA/Goldenwest/Upper MO G&T Interconnection Agreement to be effective 2/15/2024.

Filed Date: 2/15/24.

Accession Number: 20240215-5219.

Comment Date: 5 p.m. ET 3/7/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 15, 2024.
Debbie-Anne A. Reese,
Acting Secretary.

[FR Doc. 2024-03613 Filed 2-21-24; 8:45 am]

BILLING CODE 6717-01-P